DEPARTMENT OF COMMERCE

International Trade Administration

[A-533-873]

Certain Cold-Drawn Mechanical Tubing of Carbon and Alloy Steel From India: Final Results of Antidumping Duty Administrative Review and Final Determination of No Shipments; 2019-2020

AGENCY: Enforcement and Compliance, International Trade Administration, Department of Commerce.

SUMMARY: The Department of Commerce (Commerce) determines that Tube Products of India, Ltd., a unit of Tube Investments of India Limited (collectively, TII) made sales of subject merchandise in the United States at prices below normal value during the period of review (POR) June 1, 2019, through May 31, 2020. In addition, Commerce determines that Goodluck India Limited (Goodluck) had no shipments during the POR.

DATES: Applicable October 29, 2021.

FOR FURTHER INFORMATION CONTACT: Alexis Cherry or Samantha Kinney, AD/CVD Operations, Office VIII, Enforcement and Compliance, International Trade Administration, U.S. Department of Commerce, 1401 Constitution Avenue NW, Washington, DC 20230; telephone: (202) 482-0607 or (202) 482-5305, respectively.

SUPPLEMENTARY INFORMATION:

Background

On June 28, 2021, Commerce published the Preliminary Results of the 2019-2020 administrative review of the antidumping duty order on certain cold-drawn mechanical tubing of carbon and alloy steel (cold-drawn mechanical tubing) from India.¹ The administrative review covers two producers and/or exporters of the subject merchandise, Goodluck ² and TII. For the events that occurred since Commerce published the Preliminary Results, see the Issues and Decision Memorandum.³ Commerce conducted this review in accordance with section 751(a)(1)(B) of the Tariff Act of 1930, as amended (the Act).

¹ See Certain Cold-Drawn Mechanical Tubing of Carbon and Alloy Steel from India: Preliminary Results of Antidumping Duty Administrative Review, 2019-2020, 86 FR 33980 (June 28, 2021) (Preliminary Results), and accompanying Preliminary Decision Memorandum (PDM).

² Commerce is only reviewing entries that were produced, but not exported, by Goodluck, and/or entries that were exported, but not produced, by Goodluck. Pursuant to a Court of International Trade (CIT) decision, effective May 10, 2020, Commerce excluded from the antidumping duty order certain cold-drawn mechanical tubing of carbon and alloy steel that is produced and exported by Goodluck. See Certain Cold-Drawn Mechanical Tubing of Carbon and Alloy Steel from India: Notice of Court Decision Not in Harmony with Final Determination of Sales at Less Than Fair Value; Notice of Amended Final Determination Pursuant to Court Decision; and Notice of Revocation of Antidumping Duty Order, in Part, 85 FR 31742 (May 27, 2020) (Timken Notice). On August 31, 2021, the Court of Appeals for the Federal Circuit reversed the CIT's decision, finding that Commerce's initial determination to reject Goodluck's supplemental submission was supported by substantial evidence and not contrary to law. See Goodluck India v. United States, 11 F.4th 1335 (Fed. Cir. 2021); Goodluck India Ltd. v. United States, 439 F. Supp. 3d 1366 (CIT 2020); and Goodluck India Ltd. v. United States, 393 F. Supp. 3d 1352 (CIT 2019).

³ See Memorandum, “Certain Cold-Drawn Mechanical Tubing of Carbon and Alloy Steel from India: Issues and Decision Memorandum for the Final Results of Antidumping Duty Administrative Review; 2019-2020,” dated concurrently with, and hereby adopted by, this notice (Issues and Decision Memorandum).

Scope of the Order ⁴

⁴ See Certain Cold-Drawn Mechanical Tubing of Carbon and Alloy Steel from the People's Republic of China, the Federal Republic of Germany, India, Italy, the Republic of Korea, and Switzerland: Antidumping Duty Orders; and Amended Final Determinations of Sales at Less Than Fair Value for the People's Republic of China and Switzerland, 83 FR 26962 (June 11, 2018) (Order).

The product covered by this Order is cold-drawn mechanical tubing from India. A full description of the scope of the Order is contained in the Issues and Decision Memorandum.

Analysis of Comments Received

All issues raised by parties in the case and rebuttal briefs are addressed in the Issues and Decision Memorandum. A list of the issues addressed in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

We made no changes to the Preliminary Results.

Final Determination of No Shipments

In the Preliminary Results, Commerce determined that Goodluck did not have shipments of subject merchandise during the POR.⁵ As we received no information to contradict our preliminary determination, we continue to find that Goodluck made no shipments of subject merchandise to the United States during the POR. We will issue appropriate instructions that are consistent with our “automatic assessment” clarification for Goodluck.

⁵ See Preliminary Results, 86 FR at 33981, and PDM at 5-6.

Final Results of the Administrative Review

We determine that the following weighted-average dumping margin exists for the period June 1, 2019, through May 31, 2020:

Producer or exporter | Weighted- average dumping margin (percent)
Tube Products of India, Ltd., a unit of Tube Investments of India Limited | 13.06

Disclosure

Normally, Commerce will disclose to the parties in a proceeding the calculations performed in connection with a final results of review in accordance with 19 CFR 351.224(b). However, because Commerce made no adjustments to the margin calculation methodology used in the Preliminary Results, there are no calculations to disclose for the final results of review.

Assessment Rates

Commerce has determined, and U.S. Customs and Border Protection (CBP) shall assess, antidumping duties on all appropriate entries in accordance with section 751(a)(2)(C) of the Act and 19 CFR 351.212(b). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Pursuant to 19 CFR 351.212(b)(1), where the respondent reported the entered value of its U.S. sales, we calculated importer-specific ad valorem duty assessment rates based on the ratio of the total amount of dumping calculated for the examined sales to the total entered value of the sales for which entered value was reported. Where the respondent did not report entered value, we calculated importer-specific per-unit duty assessment rates based on the ratio of the total amount of antidumping duties calculated for the examined sales to the total quantity of those sales. Where an importer-specific assessment rate is de minimis (i.e., less than 0.5 percent), the entries by that importer will be liquidated without regard to antidumping duties. To determine whether an importer-specific per-unit duty assessment rate is de minimis, we calculated an estimated entered value.

The final results of this review shall be the basis for the assessment of antidumping duties on entries of merchandise covered by the final results of this review and for future deposits of estimated duties, where applicable.⁶

⁶ See section 751(a)(2)(C) of the Act.

Consistent with Commerce's clarification of its assessment practice, for entries of subject merchandise during the POR produced by TII for which it did not know the merchandise was destined for the United States, we will instruct CBP to liquidate unreviewed entries at the all-others rate if there is no rate for the intermediate company(ies) involved in the transaction.⁷ Additionally, because we determined that Goodluck had no shipments of subject merchandise to the United States during the POR, for entries of subject merchandise during the POR produced, but not exported by Goodluck, and/or entries of subject merchandise exported, but not produced by Goodluck, we will instruct CBP to liquidate any entries at the all-others rate if there is no rate for the intermediate company(ies) involved in the transaction.⁸

⁷ See Antidumping and Countervailing Duty Proceedings: Assessment of Antidumping Duties, 68 FR 23954 (May 6, 2003).

⁸ For a full discussion, see Antidumping and Countervailing Duty Proceedings: Assessment of Antidumping Duties, 68 FR 23954 (May 6, 2003).

Cash Deposit Requirements

The following cash deposit requirements will be effective for all shipments of cold-drawn mechanical tubing from India entered, or withdrawn from warehouse, for consumption on or after the date of publication of the final results as provided by section 751(a)(2) of the Act: (1) The cash deposit rate for TII will be equal to the weighted-average dumping margin established in the final results of the review; (2) for merchandise exported by producers or exporters not covered in this review but covered in a prior completed segment of the proceeding, the cash deposit rate will continue to be the company-specific rate published in the completed segment for the most recent period; (3) if the exporter is not a firm covered in this review or the original less-than-fair-value (LTFV) investigation, but the producer is, then the cash deposit rate will be the rate established in the completed segment for the most recent period for the producer of the merchandise; (4) the cash deposit rate for all other producers or exporters will continue to be 5.87 percent, the all-others rate established in the LTFV investigation in this proceeding. ⁹ These cash deposit requirements, when imposed, shall remain in effect until further notice.

⁹ See Order, 83 FR at 26962, 26965.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these results of administrative review in accordance with sections 751(a) and 777(i) of the Act, and 19 CFR 351.221(b)(5).

Dated: October 25, 2021.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Discussion of the Issues

Comment: Section 232 Duties

V. Recommendation

[FR Doc. 2021-23562 Filed 10-28-21; 8:45 am]

BILLING CODE 3510-DS-P